DEPARTMENT OF THE INTERIOR

Fish and Wildlife Service

Vieques National Wildlife Refuge, Vieques, PR

AGENCY: Fish and Wildlife Service, Interior.

ACTION: Notice of availability: Record of decision.

SUMMARY: We, the Fish and Wildlife Service, announce the decision and availability of the Record of Decision (ROD) for the Vieques National Wildlife Refuge Final Comprehensive Conservation Plan (CCP) and Environmental Impact Statement (EIS). We completed a thorough analysis of the environmental, social, and economic considerations and presented it in the Final CCP/EIS. The availability of the Final CCP/EIS was announced in the Federal Register on August 22, 2007. The ROD documents our decision to adopt and implement Alternative C.

DATES: The Regional Director, U.S. Fish and Wildlife Service, Southeast Region, signed the ROD on October 24, 2007.

ADDRESSES: A copy of the ROD may be obtained from Mr. Matthew Connolly, Refuge Manager, Vieques National Wildlife Refuge, Vieques Office Park, Road 200, KM 0.04, Vieques, PR 00765, or you may call Mr. Connolly at 787/741-2138. The Final CCP/EIS and a copy of the ROD are available for viewing and downloading at the Service's Web site: http://southeast.fws.gov/planning.

FOR FURTHER INFORMATION CONTACT: Mr. Matthew Connolly, Refuge Manager, Vieques National Wildlife Refuge, at the address in the ADDRESSES section.

SUPPLEMENTARY INFORMATION:

Introduction

With this notice, we complete the CCP process for Vieques National Wildlife Refuge, begun as announced in the Federal Register on September 3, 2003 (68 FR 52418). We released the Draft CCP/EIS to the public for a 60-day review and comment period on February 28, 2007 (72 FR 9018). We announced the availability of the Final CCP/EIS on August 22, 2007 (72 FR 47063).

Vieques National Wildlife Refuge was created from former Navy managed lands by congressional actions in 2001 and 2003. It consists of approximately 17,771 acres—3,100 acres on western Vieques and 14,671 acres on eastern Vieques. The transferred lands are to be managed in accordance with the National Wildlife Refuge System Administration Act (as amended).

The refuge lands were historically used for agricultural purposes and more recently for military training activities. As a result, the wildlife habitats and communities are significantly altered and non-native invasive species are common along with remnants of native habitats. As a result of the military training, portions of the refuge contain unexploded ordnance and other contaminants. These areas have been classified as a “superfund site” under the Comprehensive Environmental Response, Compensation, and Liability Act (CERCLA). Cleanup of these portions of the refuge is being conducted by the Navy in accordance with CERCLA. In addition, a Federal Facilities Agreement between the Navy, Environmental Protection Agency, Fish and Wildlife Service, and Commonwealth of Puerto Rico will help to guide the cleanup process.

In accordance with the National Environmental Policy Act (NEPA) (40 CFR 1506.6(b)) requirements, this notice announces our decision and the availability of the ROD for the Final CCP/EIS. We completed a thorough analysis of the environmental, social, and economic considerations, which we included in the Final CCP/EIS. The ROD documents our selection of Alternative C, the preferred alternative.

The CCP will guide us in managing and administering Vieques National Wildlife Refuge for the next 15 years. Alternative C is the foundation for the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction to conserve wildlife and their habitats, CCPs identify wildlife-dependent recreational opportunities available to the public, including opportunities for hunting, fishing, wildlife observation, wildlife photography, and environmental education and interpretation. We will review and update the CCP at least every 15 years in accordance with the Improvement Act and NEPA.

CCP Alternatives and Selected Alternative

Our Draft CCP and NEPA document addressed several priority issues raised by us, other governmental partners, and the public. To address these priority issues, we developed and evaluated three alternatives during the planning process. Alternative A would have provided for a continuation of the existing level of management. Alternative B would have focused on wildlife and habitat management but maintained the existing visitor programs and public uses. After considering the comments we received, we have chosen Alternative C. This alternative will direct the refuge toward a realistic and achievable level of both habitat management and public use, and will provide a management program to address the needs of the resources and, where appropriate and compatible with the refuge purposes, the needs of the community. This alternative will provide for increases in management efforts to restore the refuge habitats without diminishing the wildlife values associated with the current conditions. There will also be a focus on management activities to benefit threatened and endangered species. This alternative will best achieve the purposes and goals of the refuge, as well as the mission of the National Wildlife Refuge System. Included in the Final CCP/EIS are the goals, objectives, and strategies under each alternative, mitigation measures incorporated in each alternative, and a listing of the approved compatibility determinations.

Alternative C incorporates several components addressing a variety of needs, including providing emergency access to the area of Puerto Ferro during hurricane watches and warnings; continuing to work with the Navy, Environmental Protection Agency, Puerto Rico Environmental Quality Board, and the community to ensure that cleanup of contaminants and unexploded ordnance from former military activities is completed; developing fire suppression capabilities and agreements to ensure that refuge resources and the adjacent communities are protected; managing the former “Live Impact Area” as a wilderness in accordance with the legislation that established the refuge; seeking agreements with Commonwealth agencies and non-governmental organizations to ensure conservation of historic and archaeological sites; and removing unused former Navy structures to provide a refuge atmosphere.

Authority: This notice is published under the authority of the National Wildlife Refuge System Improvement Act of 1997, Public Law 105-57.

Dated: December 3, 2007.
Cynthia K. Dohner,
Acting Regional Director.

[FR Doc. E8-5 Filed 1-4-08; 8:45 am]

BILLING CODE 4310-55-P